FEDERAL COMMUNICATIONS COMMISSION

47 CFR Part 73

[MB Docket No. 23-43; RM-11944; DA 23-584; FR ID 155979]

Television Broadcasting Services Coos Bay, Oregon

AGENCY: Federal Communications Commission.

ACTION: Final rule.

SUMMARY: In this document, the Federal Communications Commission's Media Bureau, Video Division (Bureau) issued a Notice of Proposed Rulemaking (NPRM) in response to a petition for rulemaking filed by Sinclair Eugene Licensee, LLC (Petitioner or Sinclair), the licensee of KCBY-TV (Station or KCBY-TV), channel 9, Coos Bay, Oregon, requesting the substitution of channel 34 for channel 11 at Coos Bay in the Table of TV Allotments. For the reasons set forth in the Report and Order referenced below, the Bureau amends FCC regulations to substitute channel 34 for channel 11 at Coos Bay.

DATES: Effective July 19, 2023.

FOR FURTHER INFORMATION CONTACT: Joyce Bernstein, Media Bureau, at (202) 418-1647 or Joyce.Bernstein@fcc.gov.

SUPPLEMENTARY INFORMATION: The proposed rule was published at 88 FR 13770 on March 6, 2023. The Petitioner filed comments in support of the petition reaffirming its commitment to apply for channel 34. No other comments were filed.

The Bureau believes the public interest would be served by substituting channel 34 for channel 11 at Coos Bay, Oregon. The Station has a long history of severe reception problems as a result of its operation on a VHF channel and the Commission has recognized that VHF channels pose challenges for stations providing digital television service on those channels due to propagation characteristics that allow undesired signals and noise to be receivable at relatively far distances and result in large variability in the performance of indoor antennas available to viewers, with most antennas performing very poorly on high VHF channels. Thus, the channel substitution will serve the public by resolving the over-the-air reception problems and enhancing viewer reception in KCBY-TV's service area. Moreover, an analysis conducted using the Commission's TVStudy software tool indicates that all but approximately 392 persons will continue to receive the Station's signal, and the channel change will result in a predicted increase in service to more than 11,000 persons.

This is a synopsis of the Commission's Report and Order, MB Docket No. 23-43; RM-11944; DA 23-584, adopted July 5, 2023, and released July 5, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of TV Allotments, under Oregon, by revising the entry for Coos Bay to read as follows:

§ 73.622 Digital television table of allotments.

* * * * *

(j) * * *

Community | Channel No.
* * * * *
OREGON
* * * * *
Coos Bay | 22, 34
* * * * *

[FR Doc. 2023-15330 Filed 7-18-23; 8:45 am]

BILLING CODE 6712-01-P